FEDERAL COMMUNICATIONS COMMISSION

47 CFR Part 73

[MB Docket No. 22-13; RM-11914; DA 22-24; FR ID 67659]

Television Broadcasting Services Albany, New York

AGENCY: Federal Communications Commission.

ACTION: Proposed rule.

SUMMARY: The Commission has before it a petition for rulemaking filed by WNYT-TV, LLC (Petitioner), the licensee of WNYT, channel 12, Albany, New York. The Petitioner requests the substitution of channel 21 for channel 12 at in the Table of Allotments.

DATES: Comments must be filed on or before February 23, 2022 and reply comments on or before March 10, 2022.

ADDRESSES: Federal Communications Commission, Office of the Secretary, 45 L Street NE, Washington, DC 20554. In addition to filing comments with the FCC, interested parties should serve counsel for the Petitioner as follows: William LeBeau, Esq., Holland & Knight LLP, 800 17th Street NW, Washington, DC 20006.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that WNYT has a long history of significant reception problems given the local terrain. According to the Petitioner, once the station began operating solely in digital on VHF channel 12, it received numerous complaints from viewers about the station's over-the-air signal, and in order to address these problems, the Petitioner applied for and received modification authorizations to increase WNYT's effective radiated power and tried other means to improve viewers' digital reception, including constructing two digital replacement translators. The proposal will result in a net gain in service to 289,588 persons within WNYT's predicted noise limited service contour, and while it will result in a loss population of 210 persons within the predicted contour, all of the population located within WNYT's original DTV channel 12 noise limited contour will continue to receive NBC service, except for 130 people.

This is a synopsis of the Commission's Notice of Proposed Rulemaking, MB Docket No. 22-13; RM-11914; DA 22-24, adopted January 11, 2022, and released January 11, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 to read as follows:

PART 73—RADIO BROADCAST SERVICES

1. The authority citation for part 73 continues to read as follows:

Authority: 47 U.S.C. 154, 155, 301, 303, 307, 309, 310, 334, 336, 339.

2. In § 73.622(j), amend the Table of Allotments under New York, by revising the entry for “Albany” to read as follows:

§ 73.622 Digital television table of allotments.

* * * * *

(i) * * *

(j) Table of TV Allotments.

Community | Channel No.
* * * * *
NEW YORK
* * * * *
Albany | 8, 21, 24.
* * * * *

* * * * *

[FR Doc. 2022-01002 Filed 1-21-22; 8:45 am]

BILLING CODE 6712-01-P